ENVIRONMENTAL PROTECTION AGENCY

[FRL-8016-2]

Notice of an Initial Scoping Workshop on the Development of Regulations for Aircraft Public Water Systems

AGENCY: Environmental Protection Agency.

ACTION: Notice of a public meeting.

SUMMARY: The Environmental Protection Agency (EPA) is holding an initial workshop on the development of regulations for aircraft public water systems. This workshop will examine and discuss the various aspects of aircraft public water systems, including an overview of aircraft water systems and watering points, existing drinking water regulations for aircraft water systems, the scope of issues for proposing regulations tailored to aircraft water systems, as well as preliminary options for a proposed rulemaking. This is the first workshop in a series designed to gain perspectives from representatives from industry, government, public interest groups, and the general public. The EPA has been working with the Food and Drug Administration and the Federal Aviation Administration to plan this event.

DATES: The workshop will be held from 9 a.m. to 4:30 p.m., Eastern Time, on Wednesday, January 18 and Thursday, January 19, 2006. There will be a one-hour break for lunch each day.

ADDRESSES: The meeting will be held at the Hotel Washington, 515 15th Street, NW., Washington, DC 20004. The hotel is located two blocks west of the Metro Center stop on the orange, blue, and red lines. The hotel's telephone number is (202) 638-5900.

FOR FURTHER INFORMATION CONTACT: For general information about this workshop or to pre-register, please contact Travis Creighton by phone at (202) 564-3858, by email at creighton.travis@epa.gov, or by mail at: U.S. Environmental Protection Agency, Mail Code 4606M, 1200 Pennsylvania Ave., NW., Washington, DC 20460. You may also preregister and obtain an agenda for the meeting online at http://www.epa.gov/airlinewater. For technical inquiries regarding the development of an aircraft drinking water rule, contact Rick Naylor at (202) 564-3847, or by email: naylor.richard@epa.gov.

SUPPLEMENTARY INFORMATION: There is no charge for attending this workshop as an observer, but seats are limited, so register as soon as possible. Attendees will have an opportunity to make oral remarks (limited to five minutes) at specific points during the meeting. EPA also welcomes written remarks received by January 31, 2006, which can be sent to Travis Creighton by email or by mail at the address listed in the FOR FURTHER INFORMATION CONTACT section.

Special Accommodations

Any person needing special accommodations at this meeting, including wheelchair access, should contact Travis Creighton at the phone number or email address listed in the FOR FURTHER INFORMATION CONTACT section of this notice. Requests for special accommodations should be made at least five business days in advance of the public meeting.

Dated: December 21, 2005.
Cynthia C. Dougherty,
Director, Office of Ground Water and Drinking Water.

[FR Doc. E5-7992 Filed 12-27-05; 8:45 am]

BILLING CODE 6560-50-P